DEPARTMENT OF TRANSPORTATION

Office of the Secretary

Notice of Applications for Certificates of Public Convenience and Necessity and Foreign Air Carrier Permits Filed Under Subpart B (Formerly Subpart Q) During the Week Ending March 30, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-27782.

Date Filed: March 29, 2007.

Due Date for Answers, Conforming Applications, or Motion to Modify Scope: April 19, 2007.

Description: Application of Delta Air Lines, Inc. (“Delta”) requesting an exemption and a certificate of public convenience and necessity authorizing Delta to provide scheduled foreign air transportation of persons, property, and mail between any point or points in the United States and any point or points in any European Community Member State or States either directly or via any intermediate point or points, and beyond.

Renee V. Wright,
Program Manager, Docket Operations Federal Register Liaison.

[FR Doc. E7-6940 Filed 4-11-07; 8:45 am]

BILLING CODE 4910-9X-P